ENVIRONMENTAL PROTECTION AGENCY

[EPA-HQ-OPP-2011-0038; FRL-8891-5]

Primus Solutions, Inc., and Arctic Slope Regional Corp.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Primus Solutions, Inc., and its subcontractor, Arctic Slope Regional Corporation (ASRC) in accordance with 40 CFR 2.307(h)(3) and 2.308(i)(2). Primus Solutions, Inc., and its subcontractor, ASRC have been awarded a contract to perform work for OPP, and access to this information will enable Primus Solutions, Inc., and its subcontractor, ASRC, to fulfill the obligations of the contract.

DATES: Primus Solutions, Inc., and its subcontractor, ASRC will be given access to this information on or before November 14, 2011.

FOR FURTHER INFORMATION CONTACT: Mario Steadman, Information Technology and Resources Management Division (7502P), Office of Pesticide Programs, Environmental Protection Agency, 1200 Pennsylvania Ave., NW., Washington, DC 20460-0001; telephone number: (703) 305-8338, steadman.mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0038. Publicly available docket materials are available either in the electronic docket at http://www.regulations.gov, or, if only available in hard copy, at the Office of Pesticide Programs, Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Contractor Requirements

Under Contract No. EP-W-11-024, Primus Solutions, Inc., and its subcontractor, ASRC, will provide assistance to Antimicrobials Division reviewers to process applications for new registrations, new uses, amendments, and notifications within the time frame set forth by the Agency in order to meet the mandated timelines required under the Food Quality Protection Act and the Pesticide Registration Improvement Renewal Act of 2007.

OPP has determined that access by Primus Solutions, Inc., and its subcontractor, ASRC to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Primus Solutions, Inc., and its subcontractor, ASRC prohibits use of the information for any purpose not specified in the contract; prohibits disclosure of the information to a third party without prior written approval from the Agency; and requires that each official and employee of the contractor sign an agreement to protect the information from unauthorized release and to handle it in accordance with the FIFRA Information Security Manual. In addition, Primus Solutions, Inc., and its subcontractor, ASRC are required to submit for EPA approval a security plan under which any CBI will be secured and protected against unauthorized release or compromise. No information will be provided to Primus Solutions, Inc., and its subcontractor, ASRC until the requirements in this document have been fully satisfied. Records of information provided to Primus Solutions, Inc., and its subcontractor, ASRC will be maintained by EPA Project Officers for this contract. All information supplied to Primus Solutions, Inc., and its subcontractor, ASRC by EPA for use in connection with this contract will be returned to EPA when Primus Solutions, Inc., and its subcontractor, ASRC have completed their work.

List of Subjects

Environmental protection, Business and industry, Government contracts, Government property, Security measures.

Dated: October 26, 2011.
Oscar Morales,
Director, Information Technology and Resources Management Division, Office of Pesticide Programs.

[FR Doc. 2011-28626 Filed 11-8-11; 8:45 am]

BILLING CODE 6560-50-P